DEPARTMENT OF STATE

[Public Notice: 12113]

Review and Amendment of the Designations of ISIL-Libya and Real IRA (and Other Aliases) as Foreign Terrorist Organizations

Based upon a review of the Administrative Records assembled pursuant to section 219(a)(4)(C) of the Immigration and Nationality Act, as amended (8 U.S.C. 1189(a)(4)(C)) (“INA”), and in consultation with the Attorney General and the Secretary of the Treasury, I conclude that the circumstances that were the basis for the designations of the aforementioned organizations as Foreign Terrorist Organizations have not changed in such a manner as to warrant revocation of the designations and that the national security of the United States does not warrant a revocation of the designations. I also conclude that there is a sufficient factual basis to find that ISIL-Libya (and other aliases) uses the additional alias Islamic State of Iraq and ash-Sham in Libya (also known as ISIS-Libya and ISIS-L); and that there is a sufficient factual basis to find that Real IRA (and other aliases) uses the additional alias New Irish Republican Army (also known as New IRA, NIRA, and IRA Army Council).

Therefore, I hereby determine that the designations of the aforementioned organizations as Foreign Terrorist Organizations, pursuant to section 219 of the INA (8 U.S.C. 1189), shall be maintained. Additionally, pursuant to section 219(b) of the INA, as amended (8 U.S.C. 1189(b)), I hereby amend the designation of ISIL-Libya (and other aliases) as a Foreign Terrorist Organization to include the following new aliases: Islamic State of Iraq and ash-Sham in Libya, ISIS-Libya, ISIS-L; and amend the designation of Real IRA (and other aliases) as a Foreign Terrorist Organization to include the following new aliases: New Irish Republican Army, New IRA, NIRA, and IRA Army Council.

This determination shall be published in the Federal Register.

Dated: June 5, 2023.
Antony J. Blinken,
Secretary of State.

[FR Doc. 2023-13699 Filed 6-29-23; 8:45 am]

BILLING CODE 4710-AD-P